CONSUMER PRODUCT SAFETY COMMISSION

16 CFR Part 1408

[CPSC Docket No. 2019-0020]

Safety Standard for Residential Gas Furnaces and Boilers; Notice of Extension of Comment Period

AGENCY: Consumer Product Safety Commission.

ACTION: Extension of comment period.

SUMMARY: The Consumer Product Safety Commission (Commission or CPSC) published in the Federal Register a notice of proposed rulemaking (NPR) to promulgate a consumer product safety standard to address an unreasonable risk of injury and death associated with residential gas furnaces and boilers. The NPR invited the public to submit written comments during a 60-day comment period. In response to requests for an extension of the comment period, the Commission is extending the comment period.

DATES: The comment period for the proposed rule published October 25, 2023, at 88 FR 73272, is extended. Submit comments by January 25, 2024.

ADDRESSES:

Written Comments: Comments related to the Paperwork Reduction Act aspects of the proposed rule should be directed to the Office of Information and Regulatory Affairs, Office of Management and Budget (OMB), Attn: CPSC Desk Officer, FAX: 202-395-6974, or emailed to oira_submission@omb.eop.gov.

Other written comments in response to the proposed rule, identified by Docket No. CPSC-2019-0020, may be submitted by any of the following methods:

Electronic Submissions: Submit electronic comments to the Federal eRulemaking Portal at: www.regulations.gov. Follow the instructions for submitting comments. CPSC typically does not accept comments submitted by email, except as described below. CPSC encourages you to submit electronic comments by using the Federal eRulemaking Portal, as described above.

Mail/Hand Delivery/Courier/Written Submissions: Submit comments by mail/hand delivery/courier to: Office of the Secretary, Consumer Product Safety Commission, 4330 East West Highway, Bethesda, MD 20814; telephone: (301) 504-7479. If you wish to submit confidential business information, trade secret information, or other sensitive or protected information that you do not want to be available to the public, you may submit such comments by mail, hand delivery, courier, or you may email them to: cpsc-os@cpsc.gov.

Instructions: All submissions must include the agency name and docket number. CPSC may post all comments without change, including any personal identifiers, contact information, or other personal information provided to: www.regulations.gov. Do not submit through this website: confidential business information, trade secret information, or other sensitive or protected information that you do not want to be available to the public. If you wish to submit such information, please submit it according to the instructions for mail/hand delivery/courier/written submissions.

Docket for NPR: For access to the docket to read background documents or comments received, go to: www.regulations.gov, insert the docket number CPSC-2019-0020 into the “Search” box, and follow the prompts.

FOR FURTHER INFORMATION CONTACT: Ronald A. Jordan, Directorate for Engineering Sciences, Mechanical Engineering, Consumer Product Safety Commission, National Product Testing and Evaluation Center, 5 Research Place, Rockville, MD 20850; telephone: 301-987-2219; rjordan@cpsc.gov.

SUPPLEMENTARY INFORMATION: On October 11, 2023, the Commission voted to publish an NPR in the Federal Register, to promulgate a consumer product safety standard for carbon monoxide hazards associated with gas furnaces and boilers. The NPR published on October 25, 2023, with a 60-day comment period that closes on December 26, 2023 (88 FR 73272).

The Commission has received two requests to extend the comment period. On November 3, 2023, the Air-Conditioning, Heating, and Refrigeration Institute (AHRI) requested the public comment period be extended for an additional 60 days to February 26, 2024. On November 17, 2023, the American Gas Association (AGA), American Public Gas Association (APGA), and National Propane Gas Association (NPGA) submitted a similar request to extend the public comment period for the NPR by 60 days. The Commission has considered these requests to extend the comment period. To provide additional time for stakeholders to prepare comments for the rulemaking, the Commission will grant an extension of the comment period to January 25, 2024.¹

¹ The Commission voted 4-0 to approve publication of this notice of extension of comment period.

Alberta E. Mills,
Secretary, Consumer Product Safety Commission.

[FR Doc. 2023-27128 Filed 12-8-23; 8:45 am]

BILLING CODE 6355-01-P